DEPARTMENT OF THE INTERIOR

Office of Federal Acknowledgment; Documented Petitions for Federal Acknowledgment as an Indian Tribe, Submission to OMB for Renewal

AGENCY: Office of Federal Acknowledgment, Interior.

ACTION: Notice.

SUMMARY: This notice announces that the Information Collection Request for Documented Petitions for Federal Acknowledgment as an Indian Tribe is submitted to the Office of Information and Regulatory Affairs, Office of Management and Budget for extension.

DATES: Submit comments on or before November 28, 2003.

ADDRESSES: Send your written comments to Attention: Desk Officer for the Department of the Interior, Office of Information and Regulatory Affairs, Office of Management and Budget, 725 17th Street, NW., Washington, DC 20503. Please send a duplicate copy to R. Lee Fleming, Director, Office of Federal Acknowledgment, Office of the Assistant Secretary—Indian Affairs, Department of the Interior, 1849 C Street, NW., MS-4660 MIB, Washington, DC 20240.

FOR FURTHER INFORMATION CONTACT: Requests for additional information or copies of the information or copies of the information collection submission should be directed to R. Lee Fleming, Director, Office of Federal Acknowledgment, Office of the Assistant Secretary—Indian Affairs, Department of the Interior, 1849 C Street, NW., MS-4660 MIB, Washington, DC 20240. You may also call (202) 208-3592.

SUPPLEMENTARY INFORMATION:

I. Abstract

The information collection is needed to establish whether a petitioning group has the characteristics necessary to be acknowledged as having a sovereign-to-sovereign relationship with the United States. Federal acknowledgment makes the group eligible for benefits from the Federal government.

II. Method of Collection

The Federal acknowledgment regulations at 25 CFR Part 83 contain seven criteria (§ 83.7) which groups seeking Federal acknowledgment as Indian tribes must demonstrate that they meet. Information collected from petitioning groups under these regulations provide anthropological, genealogical and historical data used by the Assistant Secretary—Indian Affairs to establish whether a petitioning group has the characteristics necessary to be acknowledged as having a sovereign-to-sovereign relationship with the United States. Respondents are not required to retain copies of information submitted to the Bureau of Indian Affairs, but will probably maintain copies for their own use. No periodic reports are required.

III. Data

Title: Collection of Information for Federal Acknowledgment Under 25 CFR part 83.

OMB Number: 1076-0104.

Expiration Date: September 30, 2003.

Type of Review: Extension of a currently approved collection.

Affected Entities: Groups petitioning for Federal acknowledgment as Indian tribes.

Response: Respondents are seeking to obtain the status of a tribal entity in order to be eligible for funding and services from the Bureau of Indian Affairs by virtue of their status as Indian tribes.

Estimated Number of Petitioners: 10.

Estimated Time per Petition: 2,237.7 hours.

Estimated Total Annual Burden Hours: 22,377.

Estimated Annual Salary Costs: $895,080 (2,237.7 hours × $40.00 per hour × 10).

IV. Request for Comments

You are invited to comment on:

(a) Whether the collection of information is necessary for the proper performance of the functions of the agency, including whether the information will have practical utility;

(b) The accuracy of the agency's estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or the forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information; to train personnel and to be able to respond to a collection of information, to search data sources, to complete and review the collection of information; and to transmit or otherwise disclose the information.

Individual respondents may request confidentiality. If you wish to request that we consider withholding your name, street address, and other contact information (such as Internet address, fax, or phone number) from public review or from disclosure under the Freedom of Information Act, you must state this prominently at the beginning of your comment. We will make available for public inspection in their entirety all submissions from organizations or businesses, and from individuals identifying themselves as representatives or officials of organizations or businesses.

An agency may not conduct or sponsor, and a person is not required to respond to, a collection of information unless it displays a currently valid OMB control number.

OMB has up to 60 days to make a decision on the submission for renewal, but may make the decision after 30 days. Therefore, to receive the best consideration of your comments, you should submit them closer to 30 days than 60 days.

Dated: October 22, 2003.
Aurene M. Martin,
Principal Deputy Assistant Secretary—Indian Affairs.

[FR Doc. 03-27199 Filed 10-28-03; 8:45 am]

BILLING CODE 4310-4J-P